DEPARTMENT OF COMMERCE

National Oceanic and Atmospheric Administration

RIN 0648-XG270

Pacific Island Fisheries; Western Pacific Stock Assessment Review; Public Meeting; Correction

AGENCY: National Marine Fisheries Service (NMFS), National Oceanic and Atmospheric Administration (NOAA), Commerce.

ACTION: Notice of a public meeting; correction.

SUMMARY: NMFS and the Western Pacific Fishery Management Council (Council) have rescheduled a Western Pacific Stock Assessment Review (WPSAR) of a draft 2018 benchmark stock assessment for main Hawaiian Islands Kona crab. The meeting announced in the Federal Register on June 5, 2018, has been rescheduled for September 10-14, 2018.

DATES: See SUPPLEMENTARY INFORMATION for meeting dates.

ADDRESSES: The location of the meeting has not changed. It will be at the Council office at 1164 Bishop St., Suite 1400, Honolulu, HI 96813.

FOR FURTHER INFORMATION CONTACT: Michael Seki, Director—NMFS Pacific Islands Fisheries Science Center (PIFSC), telephone: (808) 725-5360.

SUPPLEMENTARY INFORMATION: You may find background information about the stock assessment and WPSAR process, and details of the meeting agenda and special accommodations in the June 5, 2018, Federal Register notice: https://www.federalregister.gov/documents/2018/06/05/2018-11977/pacific-island-fisheries-western-pacific-stock-assessment-review-public-meeting.

Correction

In the Federal Register of June 5, 2018, (83 FR 26010) in FR Doc. 2018-11977, on page 26011, in the first column, the dates under the heading “Meeting Agenda for WPSAR Review” are corrected to read as follows:

Day 1 Monday September 10, 2018

Day 2 Tuesday September 11, 2018

Day 3 Wednesday September 12, 2018

Day 4 Thursday September 13, 2018

Day 5 Friday September 14, 2018

The meeting times and agenda items are not changed.

Authority: 16 U.S.C. 1801 et seq.

Dated: June 15, 2018.
Jennifer M. Wallace,
Acting Director, Office of Sustainable Fisheries, National Marine Fisheries Service.

[FR Doc. 2018-13276 Filed 6-20-18; 8:45 am]

BILLING CODE 3510-22-P